DEPARTMENT OF ENERGY

Federal Energy Regulatory Commission

Combined Notice of Filings #1

Take notice that the Commission received the following electric corporate filings:

Docket Numbers: EC15-181-000.

Applicants: 87RL 8me LLC.

Description: Application for Authorization Under Section 203 of the Federal Power Act, Request for Expedited Consideration and Confidential Treatment of 87RL 8me LLC.

Filed Date: 8/3/15.

Accession Number: 20150803-5276.

Comments Due: 5 p.m. ET 8/24/15.

Docket Numbers: EC15-182-000.

Applicants: Talen Energy Marketing, LLC, Talen Renewable Energy, LLC, Talen New Jersey Biogas, LLC, Talen New Jersey Solar, LLC.

Description: Application for Approval Pursuant to Section 203 of the Federal Power Act and Request for Waivers and Privileged Treatment of Talen Energy Marketing, LLC, et al.

Filed Date: 8/4/15.

Accession Number: 20150804-5105.

Comments Due: 5 p.m. ET 8/25/15.

Take notice that the Commission received the following electric rate filings:

Docket Numbers: ER10-1585-007; ER10-1594-007; ER10-1617-007; ER10-1619-004; ER10-1620-005; ER10-1625-005; ER12-60-009; ER10-1632-009; ER10-1628-007.

Applicants: Alabama Electric Marketing, LLC, California Electric Marketing, LLC, New Mexico Electric Marketing, LLC, Tenaska Alabama Partners, L.P., Tenaska Alabama II Partners, L.P., Tenaska Georgia Partners, L.P., Tenaska Power Management, LLC, Texas Electric Marketing, LLC, Tenaska Power Services Co.

Description: Supplement to December 22, 2014 Updated Market Power Analysis of the Tenaska MBR Sellers.

Filed Date: 8/4/15.

Accession Number: 20150804-5076.

Comments Due: 5 p.m. ET 8/25/15.

Docket Numbers: ER15-2371-000.

Applicants: Pacific Gas and Electric Company.

Description: § 205(d) Rate Filing: Revisions to PWRPA IA and Termination of Riggs Ranch WDT SA to be effective 9/22/2015.

Filed Date: 8/3/15.

Accession Number: 20150803-5242.

Comments Due: 5 p.m. ET 8/24/15.

Docket Numbers: ER15-2372-000.

Applicants: Puget Sound Energy, Inc.

Description: Initial rate filing: Air Products TX Interconnection Refile to be effective 9/1/2014.

Filed Date: 8/3/15.

Accession Number: 20150803-5259.

Comments Due: 5 p.m. ET 8/24/15.

Docket Numbers: ER15-2373-000.

Applicants: Puget Sound Energy, Inc.

Description: Initial rate filing: Air Products TX NITSA & NOA Refile to be effective 9/1/2014.

Filed Date: 8/3/15.

Accession Number: 20150803-5262.

Comments Due: 5 p.m. ET 8/24/15.

Docket Numbers: ER15-2374-000.

Applicants: Southern California Edison Company.

Description: § 205(d) Rate Filing: Amended UFA Copper Mountain Solar 4 Project to be effective 8/5/2015.

Filed Date: 8/4/15.

Accession Number: 20150804-5001.

Comments Due: 5 p.m. ET 8/25/15.

Docket Numbers: ER15-2375-000.

Applicants: Westar Energy, Inc.

Description: § 205(d) Rate Filing: Revision to Attachment A, Points of Receipt to be effective 9/1/2015.

Filed Date: 8/4/15.

Accession Number: 20150804-5108.

Comments Due: 5 p.m. ET 8/25/15.

Docket Numbers: ER15-2376-000.

Applicants: Energy Power Investment Company, LLC.

Description: Baseline eTariff Filing: Market-based rate application to be effective 9/3/2015.

Filed Date: 8/4/15.

Accession Number: 20150804-5109.

Comments Due: 5 p.m. ET 8/25/15.

Docket Numbers: ER15-2377-000.

Applicants: Southwest Power Pool, Inc.

Description: Compliance filing: Gas-Electric Coordination Compliance Filing in Docket No. EL14-27 to be effective 10/1/2016.

Filed Date: 8/4/15.

Accession Number: 20150804-5128.

Comments Due: 5 p.m. ET 8/25/15.

Docket Numbers: ER15-2378-000.

Applicants: San Diego Gas & Electric Company.

Description: § 205(d) Rate Filing: System Impact Study Agreement, Service Agreement No. 51 to be effective 6/24/2015.

Filed Date: 8/4/15.

Accession Number: 20150804-5154.

Comments Due: 5 p.m. ET 8/25/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 5, 2015.
Nathaniel J. Davis, Sr.,
Deputy Secretary.

[FR Doc. 2015-19683 Filed 8-10-15; 8:45 am]

BILLING CODE 6717-01-P